DEPARTMENT OF THE TREASURY

Alcohol and Tobacco Tax and Trade Bureau

27 CFR Part 9

[T.D. TTB-34; Re: Notice No. 37]

RIN 1513-AA95

Establishment of the Dos Rios Viticultural Area (2004R-0173P)

AGENCY: Alcohol and Tobacco Tax and Trade Bureau, Treasury.

ACTION: Final rule; Treasury decision.

SUMMARY: This Treasury decision establishes the Dos Rios viticultural area in Mendocino County, California. The proposed 15,500-acre viticultural area is 150 miles north of San Francisco, California. We designate viticultural areas to allow vintners to better describe the origin of their wines and to allow consumers to better identify wines they may purchase.

EFFECTIVE DATE: November 14, 2005.

FOR FURTHER INFORMATION CONTACT: Nancy Sutton, Regulations and Rulings Division, Alcohol and Tobacco Tax and Trade Bureau, 925 Lakeville St., No. 158, Petaluma, California 94952; telephone (415) 271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Dos Rios Petition and Rulemaking

General Background

TTB received a petition from Ralph Jens Carter of Sonoma, California, proposing the establishment of a new viticultural area to be called “Dos Rios” in northern Mendocino County, California. Located at the confluence of the Eel River and the Middle Fork of the Eel River, the proposed 15,500-acre Dos Rios viticultural area is approximately 40 miles north of Ukiah, 25 miles east of the Pacific Ocean, and 5 miles north of the northern boundary of the established North Coast viticultural area (27 CFR 9.30). The proposed Dos Rios viticultural area encompasses portions of the canyons containing the two rivers. Currently, six acres of commercial vineyards are planted within the proposed area, with the potential for additional plantings.

Below, we summarize the evidence presented in the Dos Rios viticultural area petition.

Name Evidence

“Dos Rios” is Spanish for “two rivers,” according to the Harper Collins Spanish College Dictionary, Fourth Edition, published in 2002. The USGS Dos Rios Quadrangle map shows the small village of Dos Rios at the confluence of the Middle Fork of the Eel River and the main channel of the Eel River. The November 2002 California State Automobile Association map and the 2003 California Compass Map show Dos Rios village along State Highway 162 east of Laytonville, California.

The local GTE telephone directory lists Dos Rios and includes its 95429 zip code. The local Vin DeTevis winery letterhead indicates its location on Covelo Road in Dos Rios. A 1982 photograph from the book entitled “The Northwestern Pacific Railroad and Its Successors,” by Wesley Fox (Fox Publications, Arvada, Colorado), shows, according to its caption, a southbound freight train “rolling along the rocky edges of the Eel River, south of Dos Rios.”

Boundary Evidence

The proposed Dos Rios viticultural area encompasses the confluence of the Eel and the Middle Fork of the Eel Rivers, portions of the Eel River canyon to the north and south of the confluence, and a portion of the Middle Fork canyon east of the confluence. The proposed area also includes portions of the side canyons of several seasonal tributaries. The proposed viticultural area covers about 15,500 acres, and it is approximately 12 miles long east to west and 4 miles wide north to south.

The 2,000-foot contour line defines the outer limits of the proposed Dos Rios viticultural area. Section lines shown on the USGS maps of the proposed area connect the 2,000 foot contour lines across the two rivers as the contour lines pass out of the Dos Rios area. The 2,000-foot contour line marks the upper limit of the microclimate created by the proposed area's canyon geography. Above the 2,000-foot contour line, the climate becomes colder and less conducive to viticulture.

The northern boundary of the proposed Dos Rios viticultural area coincides with the Round Valley Indian Reservation southern boundary where it crosses the Eel River north of the village of Dos Rios. According to the 1971 Hubbard Scientific 3-dimensional map of the Ukiah, California, region, this portion of the proposed area includes more gentle, less eroded slopes.

The eastern region of the proposed viticultural area includes mildly steep slopes close to the Middle Fork of the Eel River. This portion of the proposed area has warmer temperatures due to sunlight reflected from the Middle Fork of the Eel River onto the surrounding slopes and canyon walls. Beyond the eastern boundary the higher, colder elevations of the Mendocino National Forest dominate the landscape.

The southern boundary line of the proposed area is approximately 3 miles south of the village of Dos Rios. This portion of the proposed area has significant winds and light reflection from the rivers, which moderate its climate.

The western boundary of the proposed Dos Rios viticultural area is approximately one mile west of the village of Dos Rios and coincides with the steep “Windy Point” geographical feature shown on the USGS Laytonville map. Mountain terrain less influenced by the canyon geography of the proposed area lies beyond its western boundary.

Distinguishing Features

Geography

Significant physical features of the proposed Dos Rios viticultural area include the Eel River and the Middle Fork of the Eel River and their surrounding canyons, which join within the proposed area. The canyon surrounding the confluence of the two rivers is a “land trough,” approximately one-half mile deep and 3 miles wide. This land trough is shown on the relevant USGS maps and in multiple dimensions on the Hubbard Scientific Ukiah region topographic map. As a land trough, the Eel and Middle Fork river canyons are the only major gaps in the Coast Range in this region of Mendocino County. These gaps allow the Pacific Ocean marine air to blow inland, or east, through the canyons and into the proposed Dos Rios viticultural area.

The names of several prominent geographic features within the proposed Dos Rios viticultural area reflect the strength of the wind blowing through the canyons. The USGS maps covering the proposed area show two different geographic features named “Windy Point” within the proposed area and another named “Windy Ridge” near the proposed area's eastern boundary. On the USGS Laytonville map, one Windy Point is near the 1,800-foot elevation in the southwest corner of section 36, T22N, R14W. On the USGS Dos Rios map, a second Windy Point is near the 1,400-foot elevation line between State Highway 162 and the Middle Fork of the Eel River, T21N, R13W. “Windy Ridge,” with elevations between 2,600 feet and 3,200 feet, is immediately outside the proposed area's eastern boundary on the USGS Covelo West map, section 18, T22N, R13W.

The canyon walls and hillsides surrounding the Eel River and the Middle Fork of the Eel River incline from 30 to 75 percent. In addition to the climate-moderating marine winds, sunlight reflecting off the two rivers onto the steep sides of the canyons warms the terrain of the canyons below the 2,000-foot contour line.

Climate

The marine winds blowing through the canyons within the proposed Dos Rios viticultural area, the direct and reflected solar radiation, and the temperature are the factors that distinguish the proposed area from the surrounding regions of Mendocino County. The “Sunset Western Garden Book,” 7th edition, 2001, (Sunset book) which divides much of the western United States into growing zones, includes the region encompassing the proposed Dos Rios viticultural area within California's Zone 14, Northern California's Inland Areas with Some Ocean Influence, a transitional climate area. The Sunset book depicts this zone as a narrow geographic region surrounded by three cooler zones. The close proximity of four climate zones to the proposed Dos Rios viticultural area also helps create a unique transitional microclimate within the proposed area.

Wind: As noted above, the presence of strong winds in the proposed Dos Rios viticultural area is reflected in the “windy” names given to several geographic features within or near its boundary. The Eel River and Middle Fork of the Eel River canyons create gaps in the Coast Range, which lies between the moderating Pacific Ocean climate to the west and the more continental climate found at the higher elevations and in the interior valleys to the east. These canyons bring climate-moderating Pacific marine air further inland than would be expected without these low-elevation gaps and allow the moderating ocean air into the Dos Rios region, affecting the climate of the proposed viticultural area.

Geographic slopes also affect airflow, according to the Sunset book description of how the local terrain can affect wind flow and solar heat. Warm air rises and cold air sinks, creating vertical wind movements on the 800-foot to 2,000-foot sloping elevations found within the proposed viticultural area.

During the spring and summer months, the proposed viticultural area has brisk afternoon breezes that intensify at sunset and subside after dark, allowing temperatures to cool. The winds help disperse the morning coastal fog that reaches over the surrounding mountain ranges, giving the Dos Rios region sunny mornings that contrast with the foggier mornings found in the surrounding Covelo and Willits regions. During the winter the winds create a downdraft from the hilltops to the canyon floor that lessens the effects of freezing temperatures and frost in the vineyards.

Solar Radiation: Reflective sunlight off the water of the two rivers provides additional warming to the hillside vineyards within the proposed Dos Rios viticultural area. The intensity of the reflected sunlight dissipates above 2,000 feet in elevation, which coincides with the proposed area's boundary line.

Temperature: Temperatures within the proposed Dos Rios viticultural area annually average 52 to 58 degrees, with warm, dry summers and cool, wet winters. The marine breezes blowing through the canyons of the proposed viticultural area moderate temperatures, making the Dos Rios region cooler in the summer and warmer in the winter than regions to the east that have a more continental climate. The frost-free growing season varies from 125 days to 250 days annually.

According to the Sunset book, three cooler Sunset climate zones surround the proposed Dos Rios viticultural area and its transitional Zone 14 climate. These three climates include Zone 1, Coldest Winters in the West, Zone 2, Second Coldest Western Climate, and Zone 7, California's Digger Pine Belt. Zones 1 and 2 are the snowiest and coldest parts of the United States West Coast, excluding Alaska. Zone 7, found at lower mountain elevations, has hot summers and mild, but pronounced, winters. The Sunset book climate zone map shows the Dos Rios area as having a generally colder climate and a shorter growing season than the lower Mendocino County elevations.

Rainfall and Snow: The proposed Dos Rios viticultural area averages 30 to 60 inches of rainfall each year with most rainfall occurring between October and April. The proposed area also receives occasional light snow, while the surrounding higher elevations receive more snow.

Soils

Soils of the proposed Dos Rios viticultural area are well-drained to excessively well-drained loams, sandy loams, and gravelly loams that are deep to very deep. These soils are categorized as poor, with coarse texture and limited water retention. They are weathered from sandstone, siltstone, schist, and greywacke, which are rich in mineral nutrients. The soils within the proposed Dos Rios viticultural area differ from other nearby grape-growing regions such as the Potter Valley viticultural area (27 CFR 9.82), which have Cole series soils that are poorly drained, nearly level clay loams.

Notice of Proposed Rulemaking and Comments Received

On March 31, 2005, TTB published a notice of proposed rulemaking regarding the establishment of the Dos Rios viticultural area in the Federal Register as Notice No. 37 (70 FR 16455). In that notice, TTB requested comments by May 31, 2005, from all interested persons. TTB received 14 comments in response, all supporting establishment of the proposed Dos Rios viticultural area.

TTB Finding

After careful review of the petition and the comments received, TTB finds that the evidence submitted supports the establishment of the proposed viticultural area. Therefore, under the authority of the Federal Alcohol Administration Act and part 4 of our regulations, we establish the “Dos Rios” viticultural area in Mendocino County, California, effective 30-days from the publication date of this document.

Boundary Description

See the narrative boundary description of the viticultural area in the regulatory text published at the end of this notice.

Maps

The petitioner provided the required maps, and we list them below in the regulatory text.

Impact on Current Wine Labels

Part 4 of the TTB regulations prohibits any label reference on a wine that indicates or implies an origin other than the wine's true place of origin. With the establishment of this viticultural area and its inclusion in part 9 of the TTB regulations, its name, “Dos Rios,” is recognized as a name of viticultural significance. Consequently, wine bottlers using “Dos Rios” in a brand name, including a trademark, or in another label reference as to the origin of the wine, will have to ensure that the product is eligible to use the viticultural area's name as an appellation of origin.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label.

Different rules apply if a wine has a brand name containing a viticultural area name that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866 (58 FR 51735). Therefore, it requires no regulatory assessment.

Drafting Information

Nancy Sutton of the Regulations and Rulings Division drafted this document.

List of Subjects in 27 CFR Part 9

Wine.

The Regulatory Amendment

For the reasons discussed in the preamble, we amend 27 CFR, chapter 1, part 9, as follows:

PART 9—AMERICAN VITICULTURAL AREAS

1. The authority citation for part 9 continues to read as follows:

Authority: 27 U.S.C. 205.

Subpart C—Approved American Viticultural Areas

2. Amend subpart C by adding § 9.175 to read as follows:

§ 9.175 Dos Rios.

(a) Name. The name of the viticultural area described in this section is “Dos Rios”. For purposes of part 4 of this chapter, “Dos Rios” is a term of viticultural significance.

(b) Approved Maps. The appropriate maps for determining the boundaries of the Dos Rios viticultural area are four United States Geological Survey 1:24,000 scale topographic maps. They are titled:

(1) Dos Rios, California—Mendocino County, 1967 edition, revised 1994;

(2) Laytonville, California—Mendocino County, 1967 edition, revised 1994;

(3) Iron Peak, California—Mendocino County, 1967 edition, revised 1994; and

(4) Covelo West, California—Mendocino County, 1967 edition, photoinspected 1973.

(c) Boundary. The Dos Rios viticultural area is located in northern Mendocino County, California, at the confluence of the Eel River and the Middle Fork of the Eel River. The area's boundaries are defined as follows—

(1) Beginning in the northwestern quarter of the Dos Rios map in section 32, T22N, R13W, at the intersection of the 2,000-foot contour line and Poonkinny Road, proceed southerly and then easterly along the meandering 2,000-foot contour line to its intersection with the eastern boundary of section 2, T21N, R13W, immediately south of State Route 162 (Dos Rios Quadrangle); then

(2) Proceed straight south along the section line, crossing the Middle Fork of the Eel River, to the southeast corner of section 11, T21N, R13W (Dos Rios Quadrangle); then

(3) Proceed 0.9 mile straight west along the southern boundary of section 11 to its intersection with the 2,000-foot elevation line, T21N, R13W (Dos Rios Quadrangle); then

(4) Proceed northerly then westerly along the meandering 2,000-foot contour line, crossing Big Water Canyon, Doghouse Creek, and Eastman Creek, to the contour line's intersection with the southern boundary of section 17, T21N, R13W (Dos Rios Quadrangle); then

(5) Proceed 2.1 miles straight west along the section line, crossing the Eel River, to the section line's intersection with the 2,000-foot contour line along the southern boundary of section 18, T21N, R13W (Dos Rios Quadrangle); then

(6) Proceed northerly along the meandering 2,000-foot contour line, crossing between the Dos Rios and Laytonville maps (passing around the Sims 2208 benchmark near the southeast corner of section 36, T22N, R14W), and, returning to the Laytonville map, continue westerly to the contour line's intersection with the southwest corner of section 36, T22N, R14W, at Windy Point (Laytonville Quadrangle); then

(7) Proceed 1.2 miles straight north along the section line to its intersection with the 2,000-foot elevation line, section 25, T22N, R14W (Laytonville Quadrangle); then

(8) Proceed northerly along the meandering 2,000-foot elevation, crossing between the Laytonville and Iron Peak maps, and, returning to the Iron Peak map, continue along the contour line to its intersection with the western boundary of section 14 immediately south of an unnamed unimproved road, T22N, R14W (Iron Peak Quadrangle); then

(9) Proceed straight north along the section line to the southeast corner of section 3, T22N, R14W (Iron Peak Quadrangle); then

(10) Proceed straight west along the section line to the southwest corner of section 3, T22N, R14W (Iron Peak Quadrangle); then

(11) Proceed straight north along the section line to the northwest corner of section 3, T22N, R14W (Iron Peak Quadrangle); then

(12) Proceed straight east along the section line, crossing the Eel River, to the northeast corner of section 2, which coincides with the Round Valley Indian Reservation's southern boundary, T22N, R14W (Iron Peak Quadrangle); then

(13) Proceed straight south along the section line to the southeast corner of section 2, T22N, R14W (Iron Peak Quadrangle); then

(14) Proceed 0.3 mile straight east to the section line's intersection with the 2,000-foot elevation line along the northern boundary of section 12, T22N, R14W, west of Eberle Ridge, (Iron Peak Quadrangle); and

(15) Proceed generally southeast along the meandering 2,000-foot elevation, crossing onto the Covelo West map and continuing southerly along the 2,000-foot contour line from Stoner Creek in section 18, T22N, R13W, and, returning to the Dos Rios map, continue southeasterly along the 2,000-foot contour line (crossing Goforth and Poonkinny Creeks), to the beginning point at the contour line's intersection with Poonkinny Road.

Signed: August 15, 2005.
Vicky I. McDowell,
Acting Administrator.
Approved: September 2, 2005.
Timothy E. Skud,
Deputy Assistant Secretary (Tax, Trade, and Tariff Policy).

[FR Doc. 05-20546 Filed 10-13-05; 8:45 am]

BILLING CODE 4810-31-P